DEPARTMENT OF THE INTERIOR

Bureau of Land Management

[WY-040-1610-DS]

Notice of Availability of the Supplemental Draft Environmental Impact Statement for the Jack Morrow Hills Coordinated Activity Plan/Draft Green River Resource Management Plan Amendment

AGENCY: Bureau of Land Management, Interior.

ACTION: Notice of Availability of the Supplemental Draft Environmental Impact Statement (SDEIS) for the Jack Morrow Hills Coordinated Activity Plan (CAP)/Draft Green River Resource Management Plan (RMP) Amendment, Wyoming.

SUMMARY: The Bureau of Land Management (BLM), in cooperation with the State of Wyoming, county governments, and conservation districts located within the planning area, have prepared an SDEIS for the Jack Morrow Hills CAP/Draft RMP Amendment. This is an integrated activity planning effort for the BLM-administered public lands and resources in the Jack Morrow Hills area, located in Sweetwater, Fremont, and Sublette Counties, Wyoming. When completed, the EIS for the Jack Morrow Hills CAP/Green River RMP Amendment will provide more specific management direction to address potential conflicts among energy resources development, recreational activities and facilities, livestock grazing, important wildlife habitat, cultural resources, and other important resource and land uses in the planning area. The planning area encompasses approximately 622,000 acres, of which 585,000 acres are public land surface and Federal mineral estate administered by the BLM through its Rock Springs Field Office in Rock Springs, Wyoming. The SDEIS documents the analysis of five alternatives, ranging from preservation to full development. Ultimately, the approved EIS for the Jack Morrow Hills CAP/RMP Amendment will include land and resource management decisions for fluid mineral leasing and mineral location in the core area, where these decisions were deferred in the Green River RMP prepared in 1997. These decisions will constitute an amendment to the Green River RMP. Other decisions made in the Green River RMP, in the balance of the planning area, may also be modified, resulting in further amendment to the RMP. Other actions resulting from this planning effort are expected to include the use of adaptive management approaches to decision making. Areas involved include: transportation planning, off-highway-vehicular use designations and designation of roads for use, livestock grazing practices, recreational activities and facilities, identification of rights-of-way windows and concentration and avoidance areas, and prescriptions for managing wildlife habitat.

DATES: Written comments on the SDEIS for the Jack Morrow Hills CAP/ Draft RMP Amendment will be accepted for 90 days following the date the Environmental Protection Agency publishes the notice of availability of the SDEIS for the Jack Morrow Hills CAP/ Draft RMP Amendment in the Federal Register, projected to be February 14, 2003. Future meetings or hearings and any other public involvement activities will be announced at least 15 days in advance through public notices, media news releases, or mailings.

ADDRESSES: Written comments should be sent to: Jack Morrow Hills CAP Team Leader, Bureau of Land Management, Rock Springs Field Office, 280 Highway 191 North, Rock Springs, Wyoming 82901. Please visit Web site www.wy.blm.gov/jmhcap for a link to submit comments by electronic mail. Individual respondents may request confidentiality. If you wish to withhold your name or street address from public review or from disclosure under the Freedom of Information Act, you must state this prominently at the beginning of your written comments. Such requests will be honored to the extent allowed by law. All submissions from organizations and businesses, and from individuals identifying themselves as representatives or officials of organizations or businesses, will be available for public inspection in their entirety. Copies of the SDEIS for the Jack Morrow Hills CAP/Draft RMP Amendment are available in the Rock Springs Field Office at the above address; the Bureau of Land Management Lander Field Office, 1335 Main Street, Lander, Wyoming 82520; and the Bureau of Land Management Wyoming State Office, 5353 Yellowstone Road, Cheyenne, Wyoming 82009. The supplemental draft EIS will also be available on the internet at the above Web site address. Anyone wishing to be placed on the mailing list for the Jack Morrow Hills CAP planning effort should contact the Rock Springs Field Office at the above address.

FOR FURTHER INFORMATION CONTACT: Ted Murphy, Acting Field Manager, or Renee Dana, Jack Morrow Hills CAP Team Leader, Rock Springs Field Office, Bureau of Land Management, at the above address; or phone 307-352-0256.

SUPPLEMENTARY INFORMATION: Based upon concerns raised by the public during preparation of the Green River RMP, the BLM is now preparing the SDEIS for the Jack Morrow Hills CAP/Draft RMP Amendment. When completed, the EIS for the Jack Morrow Hills CAP/RMP Amendment will provide management direction for the protection of important resources (e.g., desert elk and other big game habitat, unique sand dune-mountain shrub habitat, unstabilized-stabilized sand dunes), while allowing for appropriate levels of leasing and development of energy resources, recreational activities, livestock grazing, and other activities. The planning area encompasses the Steamboat Mountain, Greater Sand Dunes, Oregon Buttes, and White Mountain Petroglyphs Areas of Critical Environmental Concern (ACEC). There are also seven Wilderness Study Areas (WSAs) and part of the South Pass Historic Landscape ACEC located in the planning area.

The entire planning area contains about 622,330 acres of Federal, State, and private lands. The core area, where the Green River RMP fluid minerals leasing and mineral location decisions have been deferred, contains approximately 85,000 acres. This planning effort addresses the level and timing of mineral leasing and development, while sustaining other important land and resource uses such as big game habitat, recreation, and livestock grazing. Other actions considered in this planning effort include use of adaptive management approaches to decisionmaking. Based on monitoring of actual impacts and effectiveness of management, BLM proposes to adapt management practices for transportation planning, off-highway-vehicular use designations and designation of roads for use, livestock grazing practices, recreational activities and facilities, identification of rights-of-way corridors and avoidance areas, and prescriptions for managing wildlife habitat.

Public participation has been sought through scoping, public meetings, and field trips to ensure that this planning effort addresses all issues and concerns from those interested in the management of the public lands within the planning area.

The BLM's preferred alternative consists of management actions from the other alternatives and a few actions that are unique to the Preferred Alternative. The Preferred Alternative employs the technique of Adaptive Management (AM). AM is a process of studying and monitoring the effects of incremental implementation of management decisions. The AM process includes identification, selection, and monitoring of indicators and thresholds. These measures are chosen to clarify and enhance information about the effect of land management decisions. Existing decisions are modified based on the new information and another round of adaptive decisions is begun. Opportunities for public participation will be provided throughout the AM process. Development of the preferred alternative was based on public comment and the analysis of the other alternatives and was formulated to represent the best mix and balance for a multiple use land and resource management activity plan for the BLM-administered public lands and resources in the planning area. Comments regarding the AM process are important to assist in the final document as it relates to process, thresholds, and monitoring indicators.

There are seven existing wilderness study areas (WSAs) within the planning area. Until Congress acts, the WSAs will be managed under the Interim Wilderness Management Policy.

Alan L. Kesterke,
Acting State Director.

[FR Doc. 03-2369 Filed 2-12-03; 4:51 pm]

BILLING CODE 4310-22-P